DEPARTMENT OF ENERGY

Federal Energy Regulatory Commission

Combined Notice of Filings #1

Docket Numbers: EG23-217-000.

Applicants: Last Mile Transmission LLC.

Description: Last Mile Transmission LLC submits Notice of Self-Certification of Exempt Wholesale Generator Status.

Filed Date: 6/27/23.

Accession Number: 20230627-5154.

Comment Date: 5 p.m. ET 7/18/23.

Docket Numbers: EG23-218-000.

Applicants: Vikings Energy Farm LLC.

Description: Vikings Energy Farm LLC submits Notice of Self-Certification of Exempt Wholesale Generator Status.

Filed Date: 6/28/23.

Accession Number: 20230628-5026.

Comment Date: 5 p.m. ET 7/19/23.

Take notice that the Commission received the following electric rate filings:

Docket Numbers: ER10-2131-028.

Applicants: Grand Ridge Energy LLC.

Description: Triennial Market Power Analysis for [Central/Southwest Power Pool Inc./Northeast/Northwest/Southeast/Southwest] Region of Grand Ridge Energy LLC.

Filed Date: 6/28/23.

Accession Number: 20230628-5039.

Comment Date: 5 p.m. ET 8/28/23,

Docket Numbers: ER10-2137-028; ER10-2138-029; ER10-2139-029; ER10-2140-028; ER10-2141-028; ER14-2187-022; ER14-2799-019; ER21-258-005.

Applicants: Todd Solar LLC, Beech Ridge Energy Storage LLC, Grand Ridge Energy Storage LLC, Grand Ridge Energy V LLC, Grand Ridge Energy IV LLC, Grand Ridge Energy III LLC, Grand Ridge Energy II LLC, Beech Ridge Energy LLC.

Description: Triennial Market Power Analysis for Northeast Region of Beech Ridge Energy LLC, et al.

Filed Date: 6/28/23.

Accession Number: 20230628-5038.

Comment Date: 5 p.m. ET 8/28/23.

Docket Numbers: ER10-2488-026; ER13-1586-021; ER14-2871-020; ER15-463-019; ER15-621-019; ER15-622-019; ER16-72-015; ER16-182-015; ER16-902-012; ER17-47-012; ER17-48-013; ER18-47-012; ER18-2240-008; ER18-2241-008; ER19-426-008; ER19-427-008; ER19-1575-009; ER19-1660-008; ER19-1662-008; ER19-1667-008; ER20-71-008; ER20-72-008; ER20-75-008; ER20-76-010; ER20-77-008; ER20-79-008; ER21-1368-004; ER21-1369-005; ER21-1371-005; ER21-1373-006; ER21-1376-006; ER21-2782-005; ER22-149-005; ER22-1439-005; ER22-1440-005; ER22-1441-005; ER22-1442-003; ER22-2419-001; ER22-2420-001; ER23-562-002; ER23-1048-001.

Applicants: Lockhart ESS, LLC,TGP Energy Management II, LLC, Lockhart Solar PV II, LLC, Lockhart Solar PV, LLC, EdSan 1B Group 3, LLC, EdSan 1B Group 2, LLC, EdSan 1B Group 1 Sanborn, LLC, EdSan 1B Group 1 Edwards, LLC, Sagebrush Line, LLC, Sagebrush ESS, LLC, ES 1A Group 3 Opco, LLC, ES 1A Group 2 Opco, LLC, Edwards Sanborn Storage II, LLC, Edwards Sanborn Storage I, LLC, Valley Center ESS, LLC, Voyager Wind IV Expansion, LLC, Painted Hills Wind Holdings, LLC, Tehachapi Plains Wind, LLC, Oasis Alta, LLC, Coachella Wind Holdings, LLC, Coachella Hills Wind, LLC, Terra-Gen VG Wind, LLC, Mojave 16/17/18 LLC, Mojave 3/4/5 LLC, Alta Oak Realty, LLC,LUZ Solar Partners IX, Ltd., LUZ Solar Partners VIII, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC,TGP Energy Management, LLC, Oasis Power Partners, LLC.

Description: Notice of Non-Material Change in Status of Alta Oak Realty, LLC, et al.

Filed Date: 6/26/23

Accession Number: 20230626-5196.

Comment Date: 5 p.m. ET 7/17/23.

Docket Numbers: ER10-2718-039; ER10-2719-040.

Applicants: East Coast Power Linden Holding, L.L.C., Cogen Technologies Linden Venture, L.P.

Description: Triennial Market Power Analysis for Northeast Region of Cogen Technologies Linden Venture, L.P., et al.

Filed Date: 6/23/23.

Accession Number: 20230623-5193.

Comment Date: 5 p.m. ET 8/22/23.

Docket Numbers: ER12-2601-002.

Applicants: Rayonier Performance Fibers, LLC.

Description: Notice of Non-Material Change in Status of Rayonier Performance Fibers, LLC.

Filed Date: 8/12/22.

Accession Number: 20220812-5229.

Comment Date: 5 p.m. ET 7/19/23.

Docket Numbers: ER13-343-014.

Applicants: CPV Maryland, LLC.

Description: Triennial Market Power Analysis for Northeast Region of CPV Maryland, LLC.

Filed Date: 6/27/23.

Accession Number: 20230627-5197.

Comment Date: 5 p.m. ET 8/28/23.

Docket Numbers: ER16-2462-013.

Applicants: Oregon Clean Energy, LLC.

Description: Triennial Market Power Analysis for Northeast Region of Oregon Clean Energy, LLC.

Filed Date: 6/27/23.

Accession Number: 20230627-5203.

Comment Date: 5 p.m. ET 8/28/23.

Docket Numbers: ER16-2643-005.

Applicants: Panda Stonewall LLC.

Description: Triennial Market Power Analysis for Northeast Region of Potomac Energy Center, LLC.

Filed Date: 6/27/23.

Accession Number: 20230627-5201.

Comment Date: 5 p.m. ET 8/28/23.

Docket Numbers: ER17-1609-006; ER19-1215-003; ER20-2667-002.

Applicants: South Field Energy LLC, Cricket Valley Energy Center, LLC, Carroll County Energy LLC.

Description: Triennial Market Power Analysis for Northeast Region of Carroll County Energy LLC, et al.

Filed Date: 6/27/23.

Accession Number: 20230627-5196.

Comment Date: 5 p.m. ET 8/28/23.

Docket Numbers: ER17-2364-007.

Applicants: St. Joseph Energy Center, LLC.

Description: Triennial Market Power Analysis for Northeast Region of St. Joseph Energy Center, LLC.

Filed Date: 6/27/23.

Accession Number: 20230627-5202.

Comment Date: 5 p.m. ET 8/28/23.

Docket Numbers: ER18-1106-004.

Applicants: Kestrel Acquisition, LLC.

Description: Updated Triennial Market Power Analysis for Northeast Region of Kestrel Acquisition, LLC.

Filed Date: 6/27/23.

Accession Number: 20230627-5198.

Comment Date: 5 p.m. ET 8/28/23.

Docket Numbers: ER18-1150-009; ER22-2187-002; ER22-2188-003.

Applicants: Northwest Ohio IA, LLC, Northwest Ohio Solar, LLC, Northwest Ohio Wind, LLC.

Description: Triennial Market Power Analysis for Northwest Region of Northwest Ohio Wind, LLC, et al..

Filed Date: 6/23/23.

Accession Number: 20230623-5192.

Comment Date: 5 p.m. ET 8/22/23.

Docket Numbers: ER19-106-006.

Applicants: Birdsboro Power LLC.

Description: Triennial Market Power Analysis for Northeast Region of Birdsboro Power LLC.

Filed Date: 6/27/23.

Accession Number: 20230627-5204.

Comment Date: 5 p.m. ET 8/28/23.

Docket Numbers: ER21-445-003.

Applicants: Hill Top Energy Center LLC.

Description: Triennial Market Power Analysis for Northeast Region of Hill Top Energy Center LLC.

Filed Date: 6/27/23.

Accession Number: 20230627-5205.

Comment Date: 5 p.m. ET 8/28/23.

Docket Numbers: ER23-1599-001.

Applicants: PJM Interconnection, L.L.C.

Description: Compliance filing: Compliance Filing to the Commission's 6/9/2023 order in Docket No. ER23-1599-000 to be effective 6/9/2023.

Filed Date: 6/28/23.

Accession Number: 20230628-5008.

Comment Date: 5 p.m. ET 7/19/23.

Docket Numbers: ER23-1977-001.

Applicants: California Independent System Operator Corporation.

Description: Tariff Amendment: 2023-06-27 Recollation 1 of 2—Minor Amendment to Pending Filing to be effective 5/27/2023.

Filed Date: 6/27/23.

Accession Number: 20230627-5133.

Comment Date: 5 p.m. ET 7/7/23.

Docket Numbers: ER23-2273-000.

Applicants: Duke Energy Carolinas, LLC.

Description: § 205(d) Rate Filing: Wholesale Contract Revisions to Rate Schedule Nos. 328, 329, 330 and 337 to be effective 1/1/2023.

Filed Date: 6/27/23.

Accession Number: 20230627-5137.

Comment Date: 5 p.m. ET 7/18/23.

Docket Numbers: ER23-2274-000.

Applicants: Terrapin Energy LLC.

Description: Tariff Amendment: Terrapin Energy LLC MBR Tariff Cancellation to be effective 6/28/2023.

Filed Date: 6/27/23.

Accession Number: 20230627-5147.

Comment Date: 5 p.m. ET 7/18/23.

Docket Numbers: ER23-2275-000.

Applicants: Mid-Atlantic Interstate Transmission, LLC, PJM Interconnection, L.L.C.

Description: § 205(d) Rate Filing: Mid-Atlantic Interstate Transmission, LLC submits tariff filing per 35.13(a)(2)(iii: MAIT submits Amended Interconnection Agreement, Service Agreement No. 3440 to be effective 8/28/2023.

Filed Date: 6/27/23.

Accession Number: 20230627-5163.

Comment Date: 5 p.m. ET 7/18/23.

Docket Numbers: ER23-2276-000.

Applicants: PJM Interconnection, L.L.C.

Description: § 205(d) Rate Filing: ISA, SA No. 6973, ICSA, SA No. 6126; Queue AD2-134; Cancel SA Nos. 6125/3189 to be effective 6/9/2023.

Filed Date: 6/28/23.

Accession Number: 20230628-5024.

Comment Date: 5 p.m. ET 7/19/23.

Docket Numbers: ER23-2277-000.

Applicants: ISO New England Inc., New England Power Pool Participants Committee.

Description: § 205(d) Rate Filing: ISO New England Inc. submits tariff filing per 35.13(a)(2)(iii: Revisions to Update Provisions Regarding Eligible Letter of Credit Issuers to be effective 8/27/2023.

Filed Date: 6/28/23.

Accession Number: 20230628-5035.

Comment Date: 5 p.m. ET 7/19/23.

Docket Numbers: ER23-2278-000.

Applicants: Southwest Power Pool, Inc.

Description: § 205(d) Rate Filing: 1276R31 Evergy Metro NITSA NOA to be effective 9/1/2023.

Filed Date: 6/28/23.

Accession Number: 20230628-5043.

Comment Date: 5 p.m. ET 7/19/23.

Docket Numbers: ER23-2279-000.

Applicants: Clearwater Wind East, LLC.

Description: Baseline eTariff Filing: Clearwater Wind East, LLC Application for Market-Based Rate Authorization to be effective 8/28/2023.

Filed Date: 6/28/23.

Accession Number: 20230628-5045.

Comment Date: 5 p.m. ET 7/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 28, 2023.
Debbie-Anne A. Reese,
Deputy Secretary.

[FR Doc. 2023-14171 Filed 7-3-23; 8:45 am]

BILLING CODE 6717-01-P